DEPARTMENT OF DEFENSE

Office of the Secretary

Submission for OMB review; comment request

ACTION: Notice.

The Department of Defense has submitted to OMB for clearance, the following proposal for collection of information under the provisions of the Paperwork Reduction Act (44 U.S.C. Chapter 35.).

Title, Associated Form, and OMB Number: Department of Defense Medical Examination Review Board (DoDMERB) Medical Information Collection Forms; DD Forms 2351, 2369, 2370, 2372, 2374, 2375, 2378, 2379, 2380, 2381, 2382, 2883, 2480, 2489, 2492, 2632; OMB Number 0704-0396.

Type of Request: Extension.

Number of Respondents: 19,000.

Responses Per Respondent: 1.

Annual Responses: 19,000.

Average Burden Per Response: 1 hour (average).

Annual Burden Hours: 19,000.

Needs and Uses: This collection of information is necessary to determine the medical qualification of applicants to the five Service academies, the four-year Reserve Officer Training Corps (ROTC) College Scholarship Program, Uniformed Services University of Health Sciences, and the Army, Navy, and Air Force Scholarship Programs. The collection of medical history of each applicant is to determine if applicants meet medical standards outlined in Department of Defense Directive 6130.3, Physical Standards for Appointment, Enlistment and Induction, dated May 2, 1994. Respondents are individuals who are interested in applying to attend one of the five Service academies, the four-year ROTC Scholarship Program, Uniformed Services University of the Health Sciences, or Army, Navy, and Air Force Scholarship Programs. The forms are processed through medical reviewers representing their respective services to determine a medical qualification status. Associated forms may or may not be required depending on the medical information contained in the medical examination. It is essential that individuals have a medical qualification determination to ensure compliance with the physical standards established for each military service program.

Affected Public: Individuals or Households.

Frequency: On occasion.

Respondent's Obligation: Required to Obtain or Retain Benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: May 23, 2000.
Patricia L. Toppings,
Alternate OSD Federal Register Liaison Officer, Department of Defense.

[FR Doc. 00-14416 Filed 6-7-00; 8:45 am]

BILLING CODE 5001-10-M